DEPARTMENT OF DEFENSE

Office of the Secretary

Proposed Collection; Comment Request

AGENCY: Office of the Under Secretary of Defense (Personnel an Readiness), DoD.

ACTION: Notice.

In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the function of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by December 22, 2003.

ADDRESSES: Written comments and recommendations on the proposed information collection should be sent to the Office of the Under Secretary of Defense (Personnel and Readiness) (Military Community and Family Policy/Educational Opportunities Directorate), ATTN: Mr. Otto Thomas, 4000 Defense Pentagon, Washington, DC 20301-4000).

FOR FURTHER INFORMATION CONTACT: To request more information on the proposed information collection or to obtain a copy of the proposed and associated collection instruments, please write to the above address or call at (703) 602-4949, ext. 160.

Title, Associated Form, and OMB Control Number: Department of Defense Public and Community Service (PACS) Program, DD Forms 2581 and 2581-1, OMB Number 0704-0324.

Needs and Uses: This information collection requirement is necessary to allow for the continued implementation of the Public and Community Service (PACS) Program. The PACS Program encourages eligible Service members to work in the public or community service arena upon separation from active duty. Employers with job openings in the public and community service arena will complete the one-time DD Form 2581, “Operation Transition Employer Registration,” to register in the PACS employer database. The DD Form 2581 and allows PACS employers to post employment opportunities on the Operation Transition Bulletin Board (TBB). Employers hiring separated Service members under the Temporary Early Retirement ACT (TERA) are required to complete the DD Form 2581-1, “Public and Community Service Organization Validation” to be validated as a PACS employer. This validation allows TERA retirees, being hired by a PACS organization, to earn additional retirement credit needed towards gaining full retirement for 20 years of creditable service. Once the retiree reaches age 62 he/she will be compensated for retirement for 20 years of service. The information from the DD Form 2581-1 is also used by the Department of Defense to validate that the employer meets the criteria of a PACS organization.

Affected Public: Individuals or households; state, local, or tribal government, businesses or other for-profit, Federal government; not-for-profit institutions.

Annual Burden Hours: 2,870.

Number of Respondents: 287.

Responses Per Respondent: 1.

Average Burden Per Response: 10 minutes.

Frequency: On occasion.

SUPPLEMENTARY INFORMATION:

Summary of Information Collection

This information is needed to satisfy Public Law 101-510, the Defense Department's Fiscal Year 1991 Authorization Act, November 5, 1990, which directed the Secretary of Defense release to civilian employers, organizations and other appropriate entities, the names (and other pertinent information) of separating members of the Armed Forces, their spouses, and civilian employees who are seeking employment in the civilian sector. The collection is also required to satisfy Public Law 102-484, the Defense Department's Fiscal Year 1993 Authorization Act, October 23, 1992, which directed the Secretary of Defense to maintain a public and community service registry in which separating Service members would be encouraged to enter into employment in the public and community services arena. DD Form 2581, “Operation Transition Employer Registration,” and DD Form 2581-1, “Public and Community Service Organization Validation,” are used to support this effort.

Dated: October 14, 2003.
Patricia L. Toppings,
Alternate OSD Federal Register Liaison Officer, Department of Defense.

[FR Doc. 03-26440 Filed 10-20-03; 8:45 am]

BILLING CODE 5001-08-M